DEPARTMENT OF ENERGY

Federal Energy Regulatory Commission

Notice of Commission Staff Attendance

The Federal Energy Regulatory Commission hereby gives notice that members of the Commission's staff may attend the following meeting related to the transmission planning activities of the Southwest Power Pool, Inc. (SPP): Strategic Planning Committee Task Force on Order No. 1000 Meeting, February 10, 2012, 9-3 p.m., Local Time.

The above-referenced meeting will be held at: AEP Offices, 1201 Elm Street, Dallas, Texas 72501.

The above-referenced meeting is open to stakeholders.

Further information may be found at www.spp.org.

The discussions at the meetings described above may address matters at issue in the following proceedings:

Docket No. ER09-35-001, Tallgrass Transmission, LLC

Docket No. ER09-36-001, Prairie Wind Transmission, LLC

Docket No. ER09-36-002, Prairie Wind Transmission, LLC

Docket No. ER09-548-001, ITC Great Plains, LLC

Docket No. ER11-4105-000, Southwest Power Pool, Inc.

Docket No. EL11-34-001, Midwest Independent Transmission System Operator, Inc.

Docket No. ER11-3967-002, Southwest Power Pool, Inc.

Docket No. ER11-3967-003, Southwest Power Pool, Inc.

For more information, contact Luciano Lima, Office of Energy Market Regulation, Federal Energy Regulatory Commission at (202) 502-6210 or luciano.lima@ferc.gov.

Dated: February 2, 2012.
Kimberly D. Bose,
Secretary.

[FR Doc. 2012-2859 Filed 2-7-12; 8:45 am]

BILLING CODE 6717-01-P